DEPARTMENT OF COMMERCE

International Trade Administration

[A-570-862]

Final Determination of Sales at Less Than Fair Value: Foundry Coke Products From The People's Republic of China

AGENCY: Import Administration, International Trade Administration, Department of Commerce.

ACTION: Notice of final determination of sales at less than fair value.

EFFECTIVE DATE: July 31, 2001.

FOR FURTHER INFORMATION CONTACT: Doreen Chen, Alex Villanueva, Marlene Hewitt, Import Administration, International Trade Administration, U.S. Department of Commerce, 14th Street and Constitution Avenue NW., Washington, DC 20230; telephone: (202) 482-0193, 482-6412, 482-1385, respectively.

The Applicable Statute

Unless otherwise indicated, all citations to the statute are references to the provisions effective January 1, 1995, the effective date of the amendments made to the Tariff Act of 1930 (“the Act”) by the Uruguay Round Agreements Act (“URAA”). In addition, unless otherwise indicated, all citations to the Department's regulations are to the regulations at 19 CFR part 351 (April 2000).

Final Determination

We determine that foundry coke products (“foundry coke”) from the People's Republic of China (“PRC”) are being, or are likely to be, sold in the United States at less than fair value (“LTFV”), as provided in section 735 of the Act. The estimated margin of sales is shown in the “Final Margin” section of this notice.

Case History

We published in the Federal Register the preliminary determination in this investigation on March 8, 2001. See Notice of Preliminary Determination of Sales at Less Than Fair Value: Foundry Coke from the People's Republic of China, 66 FR 13885 (March 8, 2001) (“Preliminary Determination”). Since the publication of the Preliminary Determination, the following events have occurred.

On March 5, 2001, CITIC Trading Company (“CITIC”) requested that the Department correct a ministerial error found in CITIC's margin calculation. On March 13, 2001, the Department determined that the alleged ministerial error by CITIC was less than the five absolute percentage points minimum required by our regulations for a ministerial error to be significant. Accordingly, the error alleged by respondent is not a significant ministerial error within the meaning of 19 CFR 351.224(g)(1) and we did not make the suggested correction. However, as discussed in Issues and Decision Memorandum for the Less Than Fair Value Investigation of Foundry Coke from the People's Republic of China: January 1, 2000 through June 30, 2000 from Joseph A. Spetrini, Deputy Assistant Secretary, Import Administration, to Faryar Shirzad, Assistant Secretary for Import Administration, dated July 23, 2001(“Decision Memorandum”) we have made the adjustment for these final results.

On March 5, 2001, Shanxi Dajin International (Group) Co. Ltd. (“Dajin”), Sinochem International Company Ltd. (“Sinochem”), CITIC, and Minmetals Townlord Techonology, Ltd. (“Minmetals”) (collectively, “respondents”) submitted a request to the Department to verify the factors of production for the related coal mines that responded to Section D of the Department's questionnaire.

On March 9, 2000, respondents submitted a request for a public hearing in accordance with 19 CFR 351.310(c). On March 5, 2001, ABC Coke, Erie Coke, Citizen's Coke and Gas Utility, and Tonawanda Coke Corporation, and the United Steelworkers of America, AFL-CIO (collectively, “petitioners”) submitted a request for a public hearing.

On March 19-20, 2001, the Department conducted a U.S. sales data and completeness verification of CITIC and Sinochem. On March 21-22, 2001, the Department conducted a U.S. sales data and completeness verification of Minmetals. On March 22-23, 2001, the Department conducted a U.S. sales data and completeness verification of Grand Coalchem.

On March 26-27, 2001, the Department conducted a factors of production verification of Taiyuan Gengyang Coking Co., Ltd., a supplier of foundry coke to Minmetals. On March 28-29, 2001, the Department conducted a factors of production verification of Beizhang Xianghe Coking Co., Ltd., a supplier of foundry coke to CITIC and Grand Coalchem. On March 30-31, 2001, the Department conducted a factors of production verification of Shanxi Qing-Xu Yaxin Coking Company, Ltd., a supplier of foundry coke to Grand Coalchem and Sinochem. On April 1, 2001, the Department conducted a factors of production verification of Miaowan Coal Mine, a coking coal supplier to Bezihang Coking Factory Co., Ltd., a foundry coke supplier to CITIC and Grand Coalchem.

On June 12, 2001, petitioners submitted their case brief with respect to the sales and factors of production verification and the Department's Preliminary Determination. On June 12, 2001, respondents submitted their case brief with respect to the sales and factors of production verification and the Department's preliminary determination. On June 12, 2001, U-Met of PA Inc. (“U-Met”), an importer of the subject merchandise, submitted a case brief on the Department's preliminary determination. On June 15, 2001, petitioners and respondents submitted rebuttal briefs with respect to the sales and factors of production verification and the Department's Preliminary Determination.

On June 22, 2001, the Department held a public hearing in accordance with 19 CFR 351.310(d)(1). Representatives for respondents, petitioners, and U-Met were present. All parties present were allowed an opportunity to make affirmative presentations only on arguments included in that party's case briefs and were also allowed to make rebuttal presentations only on arguments included in that party's rebuttal brief.

Period of Investigation

The period of investigation is January 1, 2000, through June 30, 2000.

Non-Market Economy

The Department has treated the PRC as a non market economy (NME) country in all its past antidumping investigations. See Final Determination of Sales at Less Than Fair Value: Bulk Aspirin From the People's Republic of China, 65 FR 33805 (May 25, 2000) (“Aspirin”), and Final Determination of Sales at Less Than Fair Value: Steel Concrete Reinforcing Bars From the People's Republic of China, 66 FR 33522 (June 22, 2001) (“Bars”). A designation as an NME country remains in effect until it is revoked by the Department. See section 771(18)(C) of the Act. The respondents in this investigation have not requested a revocation of the PRC's NME status. Therefore, we have continued to treat the PRC as an NME in this investigation. For further details, see the Department's Preliminary Determination.

Separate Rates

In our Preliminary Determination, we found that the respondents had met the criteria for the application of separate antidumping duty rates. We have not received any other information since the Preliminary Determination which would warrant reconsideration of our separates rates determination with respect to the respondents. Therefore, we continue to find that the respondents should be assigned individual dumping margins. For a complete discussion of the Department's determination that the respondents are entitled to separate rates, see the Preliminary Determination.

The PRC-Wide Rate

For the reasons set forth in the Preliminary Determination, we continue to believe that use of adverse facts available for the PRC-wide rate is appropriate. See Preliminary Determination, 66 FR at 13887-88.

Surrogate Country

For purposes of the final determination, we find that India remains the appropriate primary surrogate country for the PRC. For further discussion and analysis regarding the surrogate country selection for the PRC, see the Department's Preliminary Determination and the Decision Memorandum at 5.

Use of Facts Available

For a discussion of our application of facts available, see the “Facts Available” section of the Decision Memorandum, which is on file in B-099 and available on the Web at www.ita.doc.gov/ import_admin/records/frn/.

Analysis of Comments Received

All issues raised in the case brief by parties to this investigation are addressed in the Decision Memorandum, which is hereby adopted by this notice. A list of the issues which parties raised, and to which we have responded, all of which are in the Decision Memorandum, is attached to this notice as an Appendix. Parties can find a complete discussion of all issues raised in this investigation and the corresponding recommendations in this public memorandum, which is on file in B-099. In addition, a complete version of the Decision Memorandum can be accessed directly on the World Wide Web at www.ita.doc.gov/ import_admin/records/frn/. The paper copy and electronic version of the Decision Memorandum are identical in content.

Changes Since the Preliminary Determination

Based on our findings at verification, and analysis of comments received, we have made adjustments to the calculation methodology in calculating the final dumping margin in this proceeding. See Analysis Memorandum for CITIC Trading Company, Shanxi Dajin International (Group) Company, Minmetals Townlord Technology Co., Ltd., and Sinochem International Company, Ltd.) (collectively, “Respondent Analysis Memo”).

Verification

As provided in section 782(i) of the Act, we verified the information submitted by each respondent for use in our final determination. We used standard verification procedures including examination of relevant accounting and production records, and original source documents provided by the respondents. For changes from the Preliminary Determination as a result of verification, see Respondent Analysis Memo.

Scope of Investigation

For purposes of this investigation, the product covered is coke larger than 100 mm (4 inches) in maximum diameter and at least 50 percent of which is retained on a 100-mm (4 inch) sieve, of a kind used in foundries.

The foundry coke products subject to this investigation were classifiable under subheading 2704.00.00.10 (as of Jan 1, 2000) and are currently classifiable under subheading 2704.00.00.11 (as of July 1, 2000) of the Harmonized Tariff Schedule of the United States (HTSUS). Although the HTSUS subheadings are provided for convenience and Customs purposes, our written description of the scope of this investigation is dispositive.

Continuation of Suspension of Liquidation

In accordance with section 735(c)(1)(B) of the Act, we are directing the Customs Service to continue to suspend liquidation of all entries of subject merchandise from the PRC, that are entered, or withdrawn from warehouses, for consumption on or after the date of publication of the Preliminary Determination in the Federal Register. The Customs Service shall continue to require a cash deposit or posting of a bond equal to the estimated amount by which the normal value exceeds the U.S. price as shown below. This suspension of liquidation instructions will remain in effect until further notice.

The weighted-average dumping margin is as follows:

Manufacturer/exporter | Weighted-average margin (percent)
Shanxi Dajin International (Group) Co. Ltd | 109.85
Sinochem International Co., Ltd | 163.73
Minmetals Townlord Techonology Co. Ltd | 76.19
CITIC Trading Company, Ltd | 78.03
PRC-Wide Rate | 214.89

ITC Notification

In accordance with section 735(d) of the Act, we have notified the International Trade Commission (“ITC”) of our determination. As our final determination is affirmative, the ITC will, within 45 days, determine whether these imports are materially injuring, or threaten material injury to, the U.S. industry. If the ITC determines that material injury, or threat of material injury does not exist, the proceeding will be terminated and all securities posted will be refunded or canceled. If the ITC determines that such injury does exist, the Department will issue an antidumping duty order directing Customs officials to assess antidumping duties on all imports of the subject merchandise entered for consumption on or after the effective date of the suspension of liquidation.

This determination is issued and published in accordance with sections 735(d) and 777(i)(1) of the Act.

Dated: July 23, 2001.
Faryar Shirzad,
Assistant Secretary for Import Administration.

Appendix Changes From the Preliminary Determination

I. General Issues

Comment 1: Valuation and Surrogate Country Selection

Comment 2: Washed Versus Unwashed Coal

Comment 3: Related Coal Mines

Comment 4: Costs Subsequent to Shipment

Comment 5: Surrogate for Rail Transportation Costs

Comment 6: Surrogate for Grass Paper

Comment 7: Use of Adverse Facts Available to Calculate a PRC-Wide Dumping Margin

Comment 8: Use of Adverse Facts Available—Taiyuan

Comment 9: Use of Adverse Facts Available for Exporters and Suppliers for Failing to Cooperate to the Best of Their Ability

Comment 10: Use of Adverse Facts Available to Calculate Normal Value for Suppliers that Failed to Respond in this Investigation or That Failed Verification.

Comment 11: Department's Alleged Failure to Calculate a Fair Market Value for Foundry Coke

II. Company Specific Issues

Comment 12: Adverse Facts Application to Sinochem Sale (Scope coverage)

Comment 13: Ministerial Error from the Preliminary Determination—CITIC

[FR Doc. 01-19048 Filed 7-30-01; 8:45 am]

BILLING CODE 3510-25-P